NUCLEAR REGULATORY COMMISSION

Sunshine Act Meeting

Date: Weeks of April 14, 21, 28, May 5, 12, 19, 2003.

Place: Commissioners' Conference Room, 11555 Rockville Pike, Rockville, Maryland.

Status: Public and closed.

Matters to be Considered:

Week of April 14, 2003

There are no meetings scheduled for the Week of April 14, 2003.

Week of April 21, 2003—Tentative

There are no meetings scheduled for the Week of April 21, 2003.

Week of April 28, 2003—Tentative

There are no meetings scheduled for the Week of April 28, 2003.

Week of May 5, 2003—Tentative

There are no meetings scheduled for the Week of May 5, 2003.

Week of May 12, 2003—Tentative

Thursday, May 15, 2003

9:30 a.m.—Briefing on results of Agency Action Review Meeting (Public Meeting) (Contact: Robert Pascarelli, 301-415-1245)

This meeting will be webcast live at the Web address— http://www.nrc.gov.

Week of May 19, 2003—Tentative

There are no meetings scheduled for the Week of May 19, 2003.

The schedule for Commission meetings is subject to change on short notice. To verify the status of meetings call (recording)—(301) 415-1292. Contact person for more information: David Louis Gamberoni (301) 415-1651.

* * * * *

Additional Information

By a vote of 4-0 on April 8, the Commission determined pursuant to U.S.C. 552b(e) and § 9.107(a) of the Commission's rules that “Discussion of Security Issues (Closed—Ex. 1)” be held on April 9, and on less than one week's notice to the public.

By a vote of 4-0 on April 8 & 9, the Commission determined pursuant to U.S. 552b(e) and § 9.107(a) of the Commission's rules that “Discussion of Security Issues (Closed—Ex. 1)” be held on April 11, and on less than one week's notice to the public.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 10, 2003.
D.L. Gamberoni,
Technical Coordinator, Office of the Secretary.

[FR Doc. 03-9311 Filed 4-11-03; 11:24 am]

BILLING CODE 7590-01-M